DEPARTMENT OF ENERGY

Federal Energy Regulatory Commission

[Docket No. EL06-90-000]

PPL EnergyPlus, LLC, PPL Martins Creek, LLC, PPL Susquehanna, LLC, PPL Montour, LLC, PPL Brunner Island, LLC, PPL Holtwood, LLC, PPL University Park, LLC, Lower Mount Bethel Energy, LLC, Complainants; v PJM Interconnection, LLC, Respondent; Notice of Complaint

July 26, 2006.

Take notice that on July 25, 2006, PPL EnergyPlus LLC, and PPL Martins Creek, LLC, PPL Susquehanna, LLC, PPL Montour LLC, PPL Brunner Island, LLC, PPL Holtwood, LLC, PPL University Park, LLC and Lower Mount bethel Energy, LLC (collectively, PPL) filed a formal complaint against PJM Interconnection, L.L.C. (PJM) pursuant to 18 CFR 385.206 and sections 206, 303, and 306 of the Federal Power Act, alleging, in part, that: (1) PJM impermissibly applied offer-caps to real-time market bids associated with combustion turbines (CTs) at seven locations owned by PPL that were operated for PJM on July 27, 2005; (2) PJM violated the Commission's requirements when it failed to request PPL to turn on CTs at PPL's Fishbach generating facility before PJM declared a maximum generation emergency on July 27, 2005; and (3) PJM improperly dispatched PPL's generation resources, miscalculated real-time energy market prices for energy to reflect market-based bids for energy supplied on July 27, 2005, and failed to comply with its payment obligations for energy supplied from PPL's resources on July 27, 2005.

PPL certified that copies of the complaint were served on the contacts for PJM, as listed on the Commission's list of Corporate Officials, as well as affected state regulatory agencies.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on August 24, 2006.

Magalie R. Salas,
Secretary.

[FR Doc. E6-12376 Filed 8-1-06; 8:45 am]

BILLING CODE 6717-01-P